FEDERAL COMMUNICATIONS COMMISSION

[Report No. 2404]

Petitions for Reconsideration of Action in Rulemaking Proceeding

April 18, 2000.

Petitions for Reconsideration have been filed in the Commission's rulemaking proceeding listed in this Public Notice and published pursuant to 47 CFR section 1.429(e). The full text of these documents are available for viewing and copying in Room CY-A257, 445 12th Street, SW., Washington, DC or may be purchased from the Commission's copy contractor, ITS, Inc. (202) 857-3800. Oppositions to this petition must be filed by May 10, 2000. See Section 1.4(b)(1) of the Commission's rules (47 CFR 1.4(b)(1)). Replies to an opposition must be filed within 10 days after the time for filing oppositions has expired.

Subject: 1998 Biennial Regulatory Review—Amendment of Part 97 of the Commission's Amateur Service Rules. (WT Docket No. 98-143).

Number of Petitions Filed: 7.

Federal Communications Commission.
Magalie Roman Salas,
Secretary.

[FR Doc. 00-10223 Filed 4-24-00; 8:45 am]

BILLING CODE 6712-01-M